DEPARTMENT OF HOMELAND SECURITY

Coast Guard

[Docket No. USCG-2022-0345]

Certificate of Alternative Compliance for the GUNDERSON MARINE OIL SPILL RECOVERY BARGE (OSRB-5), HULL NO 129

AGENCY: Coast Guard, DHS.

ACTION: Notification of issuance of a certificate of alternative compliance.

SUMMARY: The Coast Guard announces that the Chief, Prevention Division, Thirteenth Coast Guard District has issued a certificate of alternative compliance from the International Regulations for Preventing Collisions at Sea, 1972 (72 COLREGS), for the GUNDERSON MARINE OSRB-5, HULL NO 129. We are issuing this notification because its publication is required by statute. Due to the construction and placement of the sidelights GUNDERSON MARINE OSRB-5, HULL NO 129 cannot fully comply with the light, shape, or sound signal provisions of the 72 COLREGS without interfering with the vessel's design and construction. This notification of issuance of a certificate of alternative compliance promotes the Coast Guard's marine safety mission.

DATES: The certificate of alternative compliance was issued on August 10, 2022.

FOR FURTHER INFORMATION CONTACT: For information or questions about this notice call or email Ms. Jill L. Lazo, Thirteenth District, U.S. Coast Guard; telephone 206-220-7232, email Jill.L.Lazo@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Chief, Prevention Division, Thirteenth Coast Guard District, certifies that GUNDERSON MARINE OSRB-5, HULL NO 129 is a barge of special construction or purpose, and that, with respect to the position of the sidelights, it is not possible to comply fully with the requirements of the provisions enumerated in the 72 COLREGS, without interfering with the normal operation, construction, or design of the vessel. The unique design of the vessel did not lend itself to full compliance with Annex I Part 3 (b), of the 72 COLREGS, 33 CFR 83.21(b), and 84.03(b) of the International Navigational Rules. The Chief, Prevention Division, Thirteenth Coast Guard District further finds and certifies that the sidelights, are in the closest possible compliance with the applicable provisions of the 72 COLREGS.⁵

⁵ 33 U.S.C. 1605(a); 33 CFR 81.9.

This document is issued under authority of 33 U.S.C. 1605(c) and 33 CFR 81.18.

Dated: September 13, 2022.
P.C. Burkett,
Captain, U.S. Coast Guard, Chief, Prevention Division, Thirteenth Coast Guard District.

[FR Doc. 2022-20304 Filed 9-19-22; 8:45 am]

BILLING CODE 9110-04-P